FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 9, 2005.

A. Federal Reserve Bank of Kansas City (Donna J. Ward, Assistant Vice President) 925 Grand Avenue, Kansas City, Missouri 64198-0001:

1. Nikki C. Cook, Kansas City, Missouri, as co-trustee of the George N. Cook, Jr. Living Trust and the Nikki C. Cook Living Trust; Judy A. Denesia, Overland Park, Kansas, as trustee of the Denesia Family Trust; Tiffany L. Self, Oklahoma City, Oklahoma; Swords Associates, Inc., Kansas City, Missouri; Suzanne Untersee, Kansas City, Missouri; Gebra Holdings, LLC, Oklahoma City, Oklahoma; and Mark C. Parman, Overland Park, Kansas; to become members of a group acting in concert to acquire voting shares of First Medicine Lodge Bancshares, Inc., and thereby indirectly acquire voting shares of SolutionsBank, both in Overland Park, Kansas.

Board of Governors of the Federal Reserve System, July 20, 2005.
Robert deV. Frierson,
Deputy Secretary of the Board.

[FR Doc. 05-14654 Filed 7-25-05; 8:45 am]

BILLING CODE 6210-01-S